DEPARTMENT OF HOMELAND SECURITY

Federal Emergency Management Agency

[Docket ID FEMA-2015-0001; Internal Agency Docket No. FEMA-B-1543]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 26, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1543, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies will be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: October 8, 2015.
Roy E. Wright,
Deputy Associate Administrator for Insurance and Mitigation, Department of Homeland Security, Federal Emergency Management Agency.

Community | Community map repository address
St. Mary Parish, Louisiana, and Incorporated Areas
Maps Available for Inspection Online at: http://www.fema.gov/preliminaryfloodhazarddata
Project: 15-06-2286S Preliminary Date: June 30, 2015
Chitimacha Tribe of Louisiana | Chitimacha Tribe of Louisiana, St. Mary Parish Courthouse, Planning and Zoning Office, 500 Main Street, 5th Floor, Franklin, LA 70538.
City of Franklin | City Hall, 300 Iberia Street, Franklin, LA 70538.
City of Morgan City | Planning and Zoning Department, 509 2nd Street, Morgan City, LA 70380.
City of Patterson | City Hall, 1314 Main Street, Patterson, LA 70392.
Town of Baldwin | Town Hall, 800 Main Street, Baldwin, LA 70514.
Town of Berwick | Town Hall, 3225 Third Street, Berwick, LA 70342.
Unincorporated Areas of St. Mary Parish | St. Mary Parish Courthouse, Planning and Zoning Office, 500 Main Street, 5th Floor, Franklin, LA 70538.
Warren County, Pennsylvania (All Jurisdictions)
Maps Available for Inspection Online at: http://www.fema.gov/preliminaryfloodhazarddata
Project: 07-03-0302S Preliminary Dates: June 11, 2010 and June 12, 2015
Borough of Bear Lake | Borough of Bear Lake, Warren County Building, Henry R. Rouse Annex, 100 Dillon Drive, Youngsville, PA 16371.
Borough of Clarendon | Borough Building, 15 North Main Street, Clarendon, PA 16313.
Borough of Sugar Grove | Borough of Sugar Grove, Warren County Courthouse Office of Planning and Zoning, 204 4th Avenue, Warren, PA 16365.
Borough of Tidioute | Borough Maintenance Garage, 63 Grant Street, Tidioute, PA 16351.
Borough of Youngsville | Borough Building, 40 Railroad Street, Youngsville, PA 16371.
City of Warren | City Municipal Building, 318 West 3rd Avenue, Warren, PA 16365.
Township of Brokenstraw | Brokenstraw Township Building, 770 Rouse Avenue, Youngsville, PA 16371.
Township of Cherry Grove | Cherry Grove Fire Hall and Township Office, 6039 Cherry Grove Road, Clarendon, PA 16313.
Township of Columbus | Township Building, 44 North Street, Columbus, PA 16405.
Township of Conewango | Conewango Township Building, 4 Fireman Street, Warren, PA 16365.
Township of Deerfield | Deerfield Township Building, 4638 Morrison Run Road, Tidioute, PA 16351.
Township of Eldred | Eldred Township Building, 2915 Newton Road, Pittsfield, PA 16340.
Township of Elk | Elk Township Office, 3794 Cole Hill Road, Suite 1, Russell, PA 16345.
Township of Farmington | Farmington Township Lander Volunteer Fire Department, 596 Fairbanks Road, Russell, PA 16345.
Township of Freehold | Freehold Township Building, 139 Lottsville Niobe Road, Bear Lake, PA 16402.
Township of Glade | Glade Township Municipal Building, 1285 Cobham Park Road, Warren, PA 16365.
Township of Limestone | Limestone Township Municipal Building, 16 Hill Drive, Tidioute, PA 16351.
Township of Mead | Mead Township Building, 119 Mead Boulevard, Clarendon, PA 16313.
Township of Pine Grove | Pine Grove Township Hall, 306 East Street, Russell, PA 16345.
Township of Pittsfield | Township Municipal Building, 488 Dalrymple Street, Pittsfield, PA 16340.
Township of Pleasant | Pleasant Township Municipal Building, 8 Chari Lane, Warren, PA 16365.
Township of Sheffield | Township Office, 20 Leather Street, Sheffield, PA 16347.
Township of Southwest | Township of Southwest, Warren County Courthouse Office of Planning and Zoning, 204 4th Avenue, Warren, PA 16365.
Township of Spring Creek | Township Building, 3811 Old Route 77, Spring Creek, PA 16436.
Township of Sugar Grove | Township Building, 195 Creek Road, Sugar Grove, PA 16350.
Township of Triumph | Triumph Township Building, 10390 Youngsville Road, Grand Valley, PA 16420.
Township of Watson | Watson Township Community Building, 2011 Route 337, Tidioute, PA 16351.
Minnehaha County, South Dakota, and Incorporated Areas
Maps Available for Inspection Online at: http://www.fema.gov/preliminaryfloodhazarddata
Project: 15-08-0479S Preliminary Date: June 26, 2015
City of Sioux Falls | City Hall, 224 West Ninth Street, Sioux Falls, SD 57117.
Unincorporated Areas of Minnehaha County | Minnehaha County Planning Department, 415 North Dakota Avenue, Sioux Falls, SD 57104.

[FR Doc. 2015-27414 Filed 10-27-15; 8:45 am]

BILLING CODE 9110-12-P